DEPARTMENT OF TRANSPORTATION

Federal Aviation Administration

14 CFR Part 39

[Docket No. FAA-2007-27212; Directorate Identifier 2007-CE-011-AD]

RIN 2120-AA64

Airworthiness Directives; Air Tractor, Inc. Models AT-602, AT-802, and AT-802A Airplanes

AGENCY: Federal Aviation Administration (FAA), Department of Transportation (DOT).

ACTION: Notice of proposed rulemaking (NPRM).

SUMMARY: We propose to supersede Airworthiness Directive (AD) 2006-22-08, which applies to all Air Tractor, Inc. (Air Tractor) Models AT-602, AT-802, and AT-802A airplanes. AD 2006-22-08 currently requires you to repetitively inspect the engine mount for any cracks, repair or replace any cracked engine mount, and report any cracks found to the FAA. Since we issued AD 2006-22-08, the FAA has received reports of two Model AT-802A airplanes with cracked engine mounts (at 2,815 hours time-in-service (TIS) and 1,900 hours TIS) below the initial compliance time in AD 2006-22-08. The FAA has determined that an initial inspection at 1,300 hours TIS is required instead of 4,000 hours TIS required by AD 2006-22-08. Consequently, this proposed AD would retain the actions of AD 2006-22-08 while requiring the initial inspection at 1,300 hours TIS. We are proposing this AD to detect and correct cracks in the engine mount, which could result in failure of the engine mount. Such failure could lead to separation of the engine from the airplane.

DATES: We must receive comments on this proposed AD by May 14, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

For service information identified in this proposed AD, contact Air Tractor, Inc., P.O. Box 485, Olney, Texas 76374; telephone: (940) 564-5616; facsimile: (940) 564-5612.

FOR FURTHER INFORMATION CONTACT: Andrew McAnaul, Aerospace Engineer, ASW-150 (c/o MIDO-43), 10100 Reunion Place, Suite 650, San Antonio, Texas 78216; telephone: (210) 308-3365; facsimile: (210) 308-3370.

SUPPLEMENTARY INFORMATION:

Comments Invited

We invite you to send any written relevant data, views, or arguments regarding this proposed AD. Send your comments to an address listed under the ADDRESSES section. Include the docket number, “FAA-2007-27212; Directorate Identifier 2007-CE-011-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

Two reports from Air Tractor of cracked engine mounts resulting from fatigue caused us to issue AD 2006-22-08, Amendment 39-14805 (71 FR 62910, October 27, 2006). AD 2006-22-08 currently requires the following on all Air Tractor Models AT-602, AT-802, and AT-802A airplanes:

• Inspect (initially and repetitively) the engine mount for any cracks;

• Repair or replace any cracked engine mount; and

• Report any cracks found to the FAA.

Since we issued AD 2006-22-08, the FAA has received reports of two Model AT-802A airplanes with cracked engine mounts (at 2,815 hours TIS and 1,900 hours TIS) below the initial compliance time in AD 2006-22-08. The FAA has determined that an initial inspection at 1,300 hours TIS is required instead of 4,000 hours TIS as required by AD 2006-22-08.

This condition, if not corrected, could result in failure of the engine mount. Such failure could lead to separation of the engine from the airplane.

Relevant Service Information

We have reviewed Snow Engineering Co. Service Letter #253, dated December 12, 2005, revised January 22, 2007.

The service information describes procedures for performing a visual inspection for cracks of the engine mount and requesting a repair scheme from the manufacturer.

Snow Engineering Co. has a licensing agreement with Air Tractor that allows them to produce technical data to use for Air Tractor products.

FAA's Determination and Requirements of the Proposed AD

We are proposing this AD because we evaluated all information and determined the unsafe condition described previously is likely to exist or develop on other products of the same type design. This proposed AD would supersede AD 2006-22-08 with a new AD that would require you to repetitively inspect the engine mount for any cracks, repair or replace any cracked engine mount, and report any cracks found to the FAA. To repair a cracked engine mount, you would obtain an FAA-approved repair scheme from Air Tractor following the instructions in the service information.

This proposed AD would require you to use the service information described previously to perform these actions.

Costs of Compliance

We estimate that this AD affects 368 airplanes in the U.S. registry.

We estimate the following costs to do each required inspection:

Labor cost | Parts cost | Total cost per airplane per inspection | Total cost on U.S. operators for initial inspection
1.5 work-hours × $80 per hour = $120 | Not Applicable | $120 | $44,160

We have no way of determining the number of airplanes that may need replacement of the engine mount. We estimate the following costs to do the replacement:

Labor cost | Parts cost | Total cost per airplane per replacement
81 work-hours × $80 per hour = $6,480 | $3,982 | $10,462

Any required “upon-condition” repairs would vary depending upon the damage found during each inspection. Based on this, we have no way of determining the potential repair costs for each airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-22-08, Amendment 39-14805 (71 FR 62910, October 27, 2006), and adding the following new AD:

Air Tractor, Inc: Docket No. FAA-2007-27212; Directorate Identifier 2007-CE-011-AD.

Comments Due Date

(a) We must receive comments on this airworthiness directive (AD) action by May 14, 2007.

Affected ADs

(b) This AD supersedes AD 2006-22-08, Amendment 39-14805.

Applicability

(c) This AD affects all Models AT-602, AT-802, and AT-802A airplanes, all serial numbers, that are certificated in any category.

Unsafe Condition

(d) This AD results from reports of two Model AT-802A airplanes with cracked engine mounts (at 2,815 hours time-in-service (TIS) and 1,900 hours TIS) below the initial compliance time in AD 2006-22-08. The FAA has determined that an initial inspection at 1,300 hours TIS is required instead of 4,000 hours TIS as required by AD 2006-22-08. We are issuing this AD to detect and correct cracks in the engine mount, which could result in failure of the engine mount. Such failure could lead to separation of the engine from the airplane.

Compliance

(e) To address this problem, you must do the following, unless already done:

Actions | Compliance | Procedures
(1) Visually inspect the engine mount for any cracks | Initially inspect upon accumulating 1,300 hours TIS or within the next 100 hours TIS after the effective date of this AD, whichever occurs later, unless already done. Thereafter, inspect repetitively at intervals not to exceed 300 hours TIS | Follow Snow Engineering Co. Service Letter #253, dated December 12, 2005, revised January 22, 2007.
(2) If you find any crack damage, do the following: (i) Obtain an FAA-approved repair scheme or replacement procedure from the manufacturer; and (ii) Repair following the FAA-approved repair scheme or replace the engine mount with a new engine mount following the replacement procedure. | Before further flight after any inspection required by paragraph (e)(1) of this AD where crack damage is found. If you repair the cracked engine mount, then continue to reinspect at intervals not to exceed 300 hours TIS, unless the repair scheme states differently. If you replace the engine mount, then initially inspect upon accumulating 1,300 hours TIS and repetitively at intervals not to exceed 300 hours TIS | For obtaining a repair scheme or replacement procedure: Contact Air Tractor Inc., P.O. Box 485, Olney, Texas 76374; telephone: (940) 564-5616; facsimile: (940) 564-5612.
(3) Report any cracks that you find to the FAA at the address specified in paragraph (f) of this AD. Include in your report: (i) Airplane serial number; (ii) Airplane hours TIS and engine mount hours TIS; (iii) Crack location(s) and size(s); (iv) Corrective action taken; and (v) Point of contact name and telephone number. | Within the next 30 days after you find the cracks or within the next 30 days after the effective date of this AD, whichever occurs later | The Office of Management and Budget (OMB) approved the information collection requirements contained in this regulation under the provisions of the Paperwork Reduction Act of 1980 (44 U.S.C. 3501 et seq.) and assigned OMB Control Number 2120-0056.

Alternative Methods of Compliance (AMOCs)

(f) The Manager, Fort Worth Airplane Certification Office, FAA, ATTN: Andrew McAnaul, Aerospace Engineer, ASW-150(c/o MIDO-43), 10100 Reunion Place, Suite 650, San Antonio, Texas 78216; telephone: (210) 308-3365; facsimile: (210) 308-3370, has the authority to approve AMOCs for this AD, if requested using the procedures found in 14 CFR 39.19. Before using any approved AMOC on any airplane to which the AMOC applies, notify your appropriate principal inspector (PI) in the FAA Flight Standards District Office (FSDO), or lacking a PI, your local FSDO.

(g) AMOCs approved for AD 2006-22-08 are not approved for this AD.

Related Information

(h) To get copies of the service information referenced in this AD, contact Air Tractor Inc., P.O. Box 485, Olney, Texas 76374; telephone: (940) 564-5616; facsimile: (940) 564-5612. To view the AD docket, go to the Docket Management Facility; U.S. Department of Transportation, 400 Seventh Street, SW., Nassif Building, Room PL-401, Washington, DC, or on the Internet at http://ms.dot.gov. The docket number is Docket No. FAA-2007-27212; Directorate Identifier 2007-CE-011-AD.

Issued in Kansas City, Missouri, on March 8, 2007.
David R. Showers,
Acting Manager, Small Airplane Directorate, Aircraft Certification Service.

[FR Doc. E7-4737 Filed 3-14-07; 8:45 am]

BILLING CODE 4910-13-P